DEPARTMENT OF COMMERCE

Foreign-Trade Zones Board

[B-24-2019]

Foreign-Trade Zone 116—Port Arthur, Texas; Application for Expansion

An application has been submitted to the Foreign-Trade Zones (FTZ) Board by the Foreign-Trade Zone of Southeast Texas, Inc., grantee of FTZ 116, requesting authority to expand FTZ 116—Site 1 to include additional acreage in Port Arthur, Texas. The application was submitted pursuant to the provisions of the Foreign-Trade Zones Act, as amended (19 U.S.C. 81a-81u), and the regulations of the FTZ Board (15 CFR part 400). It was formally docketed on April 11, 2019.

FTZ 116 was approved on March 20, 1985 (Board Order 296, 50 FR 13261, April 3, 1985). The zone currently consists of three sites (1,084.54 acres): Site 1 (6.12 acres) is located at the Port of Port Arthur, 4th Street and Dallas Avenue, Port Arthur; Site 2 (1,070 acres) is located west of U.S. Highway 69 in Port Arthur; and, Site 3 (8.42 acres) is located at South Gulfway Drive in Port Arthur.

The applicant is requesting authority to expand Site 1 to include the entire 149-acre Port of Port Arthur facilities that would encompass the existing 6.12 acres. No authorization for production activity is being requested at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is June 17, 2019. Rebuttal comments in response to material submitted during the foregoing period may be submitted during the subsequent 15-day period to July 1, 2019.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Camille Evans at Camille.Evans@trade.gov or (202) 482-2350.

Dated: April 11, 2019.
Andrew McGilvray,
Executive Secretary.

[FR Doc. 2019-07683 Filed 4-16-19; 8:45 am]

BILLING CODE 3510-DS-P